DEPARTMENT OF TRANSPORTATION

Federal Aviation Administration

Twenty Sixth RTCA SC-214 Standards for Air Traffic Data Communications Services Plenary

AGENCY: Federal Aviation Administration (FAA), U.S. Department of Transportation (DOT).

ACTION: Twenty Sixth RTCA SC-214 Standards for Air Traffic Data Communications Services Plenary.

SUMMARY: The FAA is issuing this notice to advise the public of a meeting of Twenty Sixth RTCA SC-214 Standards for Air Traffic Data Communications Services Plenary.

DATES: The meeting will be held February 27, 2017—11:00 a.m.-12:00 p.m.

ADDRESS: The meeting will be held at: Virtually at https://rtca.webex.com/rtca/j.php?MTID=m41a5c4b792b9ffbcee3f96c684dc6c2b, Join by phone, 1-877-668-4493, Call-in toll-free number (US/Canada), Access code: 632 268 506, Meeting password: Sc214#26!.

FOR FURTHER INFORMATION CONTACT: Karan Hofmann at khofmann@rtca.org or 202-330-0680, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Twenty Sixth RTCA SC-214 Standards for Air Traffic Data Communications Services Plenary. The agenda will include the following:

Monday, February 27, 2017—11:00 a.m.-12:00 p.m.

1. Welcome and Administrative Remarks

2. Introductions

3. Agenda Review

4. Meeting-Minutes Review

5. Terms of Reference (TOR) Revision Discussion

6. Approve TOR Revision

7. Any other Business

8. Date and Place of Next Meeting

9. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on December 7, 2016.
Mohannad Dawoud,
Management & Program Analyst, Partnership Contracts Branch, ANG-A17 NextGen, Procurement Services Division, Federal Aviation Administration.

[FR Doc. 2016-29759 Filed 12-12-16; 8:45 am]

BILLING CODE 4910-13-P